DEPARTMENT OF LABOR

Employment and Training Administration

[TA-W-52,442]

Fruit Of The Loom, Harlingen, TX; Notice of Termination of Investigation

Pursuant to Section 221 of the Trade Act of 1974, as amended, an investigation was initiated on July 31, 2003 in response to a worker petition filed by a company official on behalf of workers at Fruit Of The Loom, Harlingen, Texas.

The petitioner has requested that the petition be withdrawn. Consequently, the investigation has been terminated.

Signed at Washington, DC, this 12th day of August, 2003.
Elliott S. Kushner,
Certifying Officer, Division of Trade Adjustment Assistance.

[FR Doc. 03-22270 Filed 8-29-03; 8:45 am]

BILLING CODE 4510-30-P